DEPARTMENT OF THE INTERIOR

Fish and Wildlife Service

Proposed Low-Effect Habitat Conservation Plan for the Monument Creek Interceptor Tie-In Along Jackson Creek, El Paso County, CO

AGENCY: Fish and Wildlife Service, Interior.

ACTION: Notice of availability and receipt of application.

SUMMARY: This notice advises the public that Triview Metropolitan District and Forest Lakes Metropolitan District (Applicant) have applied to the U.S. Fish and Wildlife Service (Service) for an incidental take permit pursuant to section 10(a)(1)(B) of the Endangered Species Act (ESA) of 1973, as amended. The proposed permit would authorize the incidental take of the Preble's meadow jumping mouse, Zapus hudsonius preblei (Preble's), federally listed as threatened, through loss and modification of habitat it periodically uses for foraging, breeding and/or hibernation, associated with construction of a new sanitary sewer line extension connecting to an existing sewer line, a nonpotable water reuse line, a secondary sewer line, and a new dirt access road into the Upper Monument Creek Wastewater Treatment Facility (Facility) on Jackson Creek, El Paso County, Colorado. The duration of the permit would be 20 years from the date of issuance.

We announce the receipt of the Applicant's incidental take permit application, which includes a Low-Effect Habitat Conservation Plan (LEHCP) for Preble's on Jackson Creek within the Facility. The LEHCP fully describes the proposed project and the measures the Applicant would undertake to minimize and mitigate project impacts to Preble's.

We are requesting comments on the permit application and on the preliminary determination that the LEHCP is eligible for a categorical exclusion under the National Environmental Policy Act (NEPA) of 1969, as amended. The basis for this determination is discussed in the LEHCP and associated Low-Effect Screening Form, which are available for public review.

DATES: Written comments should be received on or before April 18, 2005.

ADDRESSES: Comments should be addressed to Susan Linner, Field Supervisor, U.S. Fish and Wildlife Service, Colorado Field Office, 755 Parfet Street, Suite 361, Lakewood, Colorado 80215. Comments also may be submitted by facsimile to (303) 275-2371.

FOR FURTHER INFORMATION CONTACT: Ms. Barbara Spagnuolo, Fish and Wildlife Biologist, Colorado Field Office, telephone (303) 275-2370.

SUPPLEMENTARY INFORMATION:

Availability of Documents

Individuals wishing copies of the LEHCP and associated documents for review should immediately contact the above office. Documents also will be available for public inspection, by appointment, during normal business hours at the above address.

Background

Section 9 of the ESA and Federal regulations prohibit the “take” of a species listed as endangered or threatened. Take is defined under the ESA, in part, as to kill, harm, or harass a federally listed species. However, the Service may issue permits to authorize “incidental take” of listed species under limited circumstances. Incidental take is defined under the ESA as take of a listed species that is incidental to, and not the purpose of, the carrying out of an otherwise lawful activity under limited circumstances. Regulations governing permits for threatened species are promulgated in 50 CFR 17.32.

The project site is on Forest Lakes, LLC property located south of the Town of Monument, along Jackson Creek, El Paso County, in the State of Colorado. The property site is 96.6 hectares (238.6 acres), but the proposed project will directly impact a maximum of 0.2 hectare (less than 0.6 acre), according to the Service's definition of Preble's habitat. Of the total amount of impacted acreage, 0.2 hectare (0.5 acre) will be temporarily disturbed and revegetated, and 0.03 hectare (0.07 acre) will be permanently disturbed.

In addition to the Proposed Action, consisting of the issuance of the incidental take permit and implementation of the LEHCP, other alternatives considered included are—(a) No action, (b) an alternative construction design for the nonpotable water line, and (c) waiting for the El Paso County Regional HCP to be approved.

To mitigate impacts that may result from incidental take, the LEHCP provides a conservation plan that will likely provide a net benefit to the Preble's and other wildlife by enhancing the Jackson Creek corridor on site and its associated riparian areas through revegetation efforts and protection of mitigation habitat from any future development by deed restriction in perpetuity. Following the brief construction period (4 weeks), 0.2 hectare (0.5 acre) of temporarily disturbed uplands will be replanted with native grasses and shrubs. Enhancement of 0.4 hectare (1.1 acres) of existing upland and riparian habitat will consist of native shrub planting and installation of a visual barrier (two-strand wire fence). In addition, noxious weeds in the enhancement area will be controlled with an herbicide at least 4 weeks prior to any native grass seeding efforts. Measures will be taken during construction to minimize impact to the habitat, including monitoring, worker education/awareness of Preble's habitat, and the use of silt fencing to reduce the amount of sediment from construction activities that reaches the creek. All of the proposed mitigation area is within the boundaries of the Facility, all of which is included in the drainage basin of Jackson Creek.

The Service has made a preliminary determination that approval of the LEHCP qualifies as a categorical exclusion under NEPA, as provided by the Department of the Interior Manual (516 DM 2, Appendix 1, and 516 DM 6, Appendix 1) and as a “low-effect” plan as defined by the Habitat Conservation Planning Handbook (November 1996). Determination of LEHCPs is based on the following three criteria—(1) Implementation of the LEHCP would result in minor or negligible effects on federally listed, proposed, and candidate species and their habitats; (2) implementation of the LEHCP would result in minor or negligible effects on other environmental values or resources; and (3) impacts of the LEHCP, considered together with the impacts of other past, present, and reasonably foreseeable similarly situated projects, would not result, over time, in cumulative effects to environmental values or resources which would be considered significant.

Based on this preliminary determination, we do not intend to prepare further NEPA documentation. We will consider public comments in making the final determination whether to prepare such additional documentation.

This notice is provided pursuant to section 10(c) of the ESA. We will evaluate the permit application, the LEHCP, and comments submitted therein to determine whether the application meets the requirements of section 10(a) of the ESA. If the requirements are met, a permit will be issued for the incidental take of the Preble's in conjunction with the construction of the sanitary sewer line and nonpotable water reuse line extensions and new access road. The final permit decision will be made no sooner than 30 days after the date of this notice.

Dated: January 31, 2005.
Richard A. Coleman,
Acting Regional Director, Denver, Colorado.

[FR Doc. 05-2850 Filed 2-14-05; 8:45 am]

BILLING CODE 4310-55-P